ENVIRONMENTAL PROTECTION AGENCY

[ER-FRL-6611-4]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 14, 2000 (65 FR 20157).

Draft EISs

ERP No. D-FHW-D40306-WV Rating EC2, King Coal Highway Project Construction, from the vicinity of Williamson to the vicinity of Bluefield, COE Section 404 Permit, Mingo, McDowell Mercer, and Wyoming Counties, WV.

Summary: EPA expressed concern with the potential impacts to streams, wetlands, and community resources.

ERP No. D-FHW-D40309-WV Rating EC1, Shawnee Highway Project, Construction between the Ghent Interchange of I-787 in the North and McDowell County 14 or McDowell County 17 in the South, Funding, McDowell, Raleigh and Wyoming Counties, WV.

Summary: EPA expressed concerns of about the potential impacts to residential, business, community, and forest resources.

ERP No. D-FHW-G40159-TX Rating EC2, US Highway 183 Alternate Project, Improvements from RM-620 to Approximately Three Miles North of the City of Leander, Williamson County, TX.

Summary: EPA expressed concerns about impacts to air quality; water quality; and cumulative impacts. EPA requests that additional information regarding the preferred alternative and these potential impacts be provided in the final EIS.

ERP No. D-FHW-H59000-NB Rating LO, Antelope Valley Study, Implementation of Stormwater Management, Transportation Improvements and Community Revitalization, Major Investment Study, City of Lincoln, Lancaster County, NB.

Summary: EPA expressed a lack of objections to the proposal.

ERP No. DB-FHW-D50004-00 Rating EO2, Woodrow Wilson Bridge Improvements, Updated Information concerning the Changes and Discusses in differences between Alternative 4A of the September 1997 FEIS and Current Design Alternative 4A, I-95/I-495 (Capital Beltway), Telegraph Road to MD-210, Funding, COE Section 10 and 404 Permits and CGD Bridge Permit Issuance, City of.

Summary: EPA expressed objections due to significant impacts to terrestrial and aquatic resources. EPA requested that critical issues regarding compensatory mitigation, forest impacts, dredged material disposal, remediation of temporary impacts, and secondary and cumulative impacts be resolved prior to the final supplemental EIS.

ERP No. RD-APH-A82126-00 Rating EO2, Regulation—Importation of Unmanufactured Wood Articles from Mexico, With Consideration for Cumulative Impacts of Methyl Bromide Use, Proposed Rule.

Summary: EPA had environmental objections to the proposed regulation based on concerns about the unnecessary use of methyl bromide, how the increases in methyl bromide use are described in comparison to current uses, the cumulative impact analysis, the adequacy of the alternatives considered, the efficacies and costs of treatments, and the lack of identification of target pests of the program.

Final EISs

ERP No. F-BLM-J01010-WY Horse Creek Coal Lease Application (Federal Coal Lease Application WYW-141435), Implementation, Campbell and Converse Counties, WY.

Summary: While most of EPA's concerns were addressed, EPA continues to be concerned about mitigation of potentially harmful levels of nitrogen oxides resulting from the blasting of coal and overburden.

Dated: September 26, 2000.
Joseph C. Montgomery,
Director, NEPA Compliance Division, Office of Federal Activities.

[FR Doc. 00-25056 Filed 9-28-00; 8:45 am]

BILLING CODE 6560-50-P